SMALL BUSINESS ADMINISTRATION

[Declaration of Disaster #3347]

State of Texas

As a result of the President's major disaster declaration on June 9, 2001, I find that the following Counties in the State of Texas constitute a disaster area due to damages caused by Tropical Storm Allison occurring on June 5, 2001 and continuing: Anderson, Angelina, Brazoria, Cherokee, Chambers, Fort Bend, Galveston, Hardin, Harris, Houston, Jasper, Jefferson, Leon, Liberty, Madison, Montgomery, Nacogdoches, Newton, Orange, Polk, Sabine, San Augustine, San Jacinto, Shelby, Smith, Trinity, Tyler, and Walker Counties. Applications for loans for physical damage as a result of this disaster may be filed until the close of business on August 8, 2001, and for loans for economic injury until the close of business on March 8, 2002 at the address listed below or other locally announced locations: U.S. Small Business Administration, Disaster Area 3 Office, 4400 Amon Carter Blvd., Suite 102, Fort Worth, TX 76155.

In addition, applications for economic injury loans from small businesses located in the following contiguous counties may be filed until the specified date at the above location: Austin, Brazos, Freestone, Henderson, Limestone, Gregg, Grimes, Matagorda, Navarro, Panola, Robertson, Rusk, Upshur, Van Zandt, Waller, Wharton and Wood Counties in Texas; Beauregard, Calcasieu, Cameron, DeSoto, Sabine and Vernon Parishes in Louisiana.

The interest rates are:

| Percent
For Physical Damage:
Homeowners with credit available elsewhere | 6.625
Homeowners without credit available elsewhere | 3.312
Businesses with credit available elsewhere | 8.000
Businesses and non-profit organizations without credit available elsewhere | 4.000
Others (including non-profit organizations) with credit available elsewhere | 7.125
For Economic Injury:
Businesses and small agricultural cooperatives without credit available elsewhere | 4.000

The number assigned to this disaster for physical damage is 334708. For economic injury the numbers assigned are 9L8600 for Texas and 9L8700 for Louisiana.

(Catalog of Federal Domestic Assistance Program Nos. 59002 and 59008)
Dated: June 11, 2001.
James E. Rivera,
Acting Associate Administrator for Disaster Assistance.

[FR Doc. 01-15121 Filed 6-14-01; 8:45 am]

BILLING CODE 8025-01-P